SMALL BUSINESS ADMINISTRATION

[Declaration of Disaster #3586]

State of Ohio (Amendment #4)

In accordance with a notice received from the Department of Homeland Security—Federal Emergency Management Agency, effective July 7, 2004, the above numbered declaration is hereby amended to include Harrison and Holmes Counties as disaster areas due to damages caused by severe storms and flooding occurring May 18, 2004, and continuing through June 21, 2004. All other counties contiguous to the above named primary counties have been previously declared.

All other information remains the same, i.e., the deadline for filing applications for physical damage is August 2, 2004, and for economic injury the deadline is March 3, 2005.

(Catalog of Federal Domestic Assistance Program Nos. 59002 and 59008)
Dated: July 8, 2004.
Herbert L. Mitchell,
Associate Administrator for Disaster Assistance.

[FR Doc. 04-15956 Filed 7-13-04; 8:45 am]

BILLING CODE 8025-01-P